DEPARTMENT OF COMMERCE

United States Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Initial Patent Applications.

Form Number(s): PTO/SB/01 and 01A, PTO/SB/02A and 02B, 02CN, 02DE, 02ES, 02FR, 02IT, 02JP, 02KR, 02NL, 02RU, 02SE, and 02LR, PTO/SB/03 and 03A, PTO/SB/04 through 07, PTO/SB/13/PCT, PTO/SB/14 and EFS-Web, PTO/SB/16 and EFS-Web, PTO/SB/17 through 19, PTO/SB/29 and 29A, and PTO/SB/101 through 110.

Agency Approval Number: 0651-0032.

Type of Request: Revision of a currently approved collection.

Burden: 11,553,888 hours annually.

Number of Respondents: 513,221 responses per year, with an estimated 466,385 responses filed electronically.

Avg. Hours Per Response: The USPTO estimates that it takes the public between 24 minutes (0.40 hours) and 33 hours and 12 minutes (33.2 hours) to complete the applications, petitions, and additional papers in this collection, depending on the request. This includes the time to gather the necessary information, prepare the application, petition, or other papers, and submit the completed request to the USPTO. The USPTO calculates that, on balance, it takes the same amount of time to gather the necessary information, prepare the utility, design, or provisional application, and submit it to the USPTO, whether the applicant submits it in paper form or electronically.

Needs and Uses: This collection of information is required by 35 U.S.C. 131 and 37 CFR 1.16 through 1.84. Each patent applicant must provide sufficient information to allow the USPTO to properly examine the application, petition, or paper to determine whether the application, petition, or paper meets the criteria set forth in the patent statutes and regulations. The various fee and application transmittal forms, the declarations, the cover sheets, the petitions, and the papers filed under 37 CFR 1.41, 1.48, and 1.53(c)(2) permit applicants to supply all of the information necessary to process the application and enables the USPTO to ensure that all of the information has been provided in order to process the application.

Affected Public: Businesses or other for profits and non-profit institutions.

Frequency: On occasion.

Respondent's Obligation: Required to obtain or retain benefits.

OMB Desk Officer: Nicholas A. Fraser, e-mail: Nicholas_A_Fraser@omb.eop.gov.

Once submitted, the request will be publicly available in electronic format through the Information Collection Review page at http://www.reginfo.gov.

Paper copies can be obtained by:

• E-mail: InformationCollection@uspto.gov. Include “0651-0032 copy request” in the subject line of the message.

• Fax: 571-273-0112, marked to the attention of Susan K. Fawcett.

• Mail: Susan K. Fawcett, Records Officer, Office of the Chief Information Officer, United States Patent and Trademark Office, P.O. Box 1450, Alexandria, VA 22313-1450.

Written comments and recommendations for the proposed information collection should be sent on or before October 29, 2010 to Nicholas A. Fraser, OMB Desk Officer, via e-mail to Nicholas_A_Fraser@omb.eop.gov or by fax to 202-395-5167, marked to the attention of Nicholas A. Fraser.

Dated: September 23, 2010.
Susan K. Fawcett,
Records Officer, USPTO, Office of the Chief Information Officer.

[FR Doc. 2010-24354 Filed 9-28-10; 8:45 am]

BILLING CODE 3510-16-P